ENVIRONMENTAL PROTECTION AGENCY

[FRL-8548-4]

State Cost Share Requirement for Leaking Underground Storage Tank (LUST) Prevention Assistance Agreements and Authority To Provide LUST Prevention Assistance Agreements to Tribes

AGENCY: Environmental Protection Agency (EPA).

ACTION: Notice.

SUMMARY: By this notice, the Environmental Protection Agency (EPA), Office of Underground Storage Tanks (OUST) is announcing that states receiving leaking underground storage tank (LUST) prevention assistance agreements must meet a twenty-five (25) percent cost share requirement. In addition, EPA is announcing the authority to provide assistance agreements to tribes using LUST prevention funding for the development and implementation of programs to manage underground storage tanks (USTs) in Indian Country.

FOR FURTHER INFORMATION CONTACT: Lynn DePont, Office of Underground Storage Tanks (5401P), Environmental Protection Agency, 1200 Pennsylvania Ave., NW., Washington, DC 20460; telephone (703) 603-9900; fax (703) 603-0175; depont.lynn@epa.gov.

SUPPLEMENTARY INFORMATION:

I. General Information

This notice applies to states and tribes that are eligible to receive leaking underground storage tank (LUST) prevention assistance agreements. This financial assistance program is not eligible for inclusion in Performance Partnership Grants under 40 CFR 35.133.

II. Background

On August 8, 2005, President Bush signed the Energy Policy Act of 2005, which amended Subtitle I of the Solid Waste Disposal Act (SWDA). SWDA Section 9011 authorizes the use of the Leaking Underground Storage Tank (LUST) Trust Fund for eligible prevention activities, including inspections, additional measures to protect groundwater, delivery prohibition, operator training, and for implementation of the UST program in Indian Country. In fiscal year 2008, Congress appropriated LUST Trust Fund money for these prevention activities for the first time. Since this is a new use for the LUST Trust Fund money, EPA is developing program guidance and revised the Catalog of Federal Domestic Assistance (CFDA) to provide information regarding state and tribal LUST prevention assistance agreements. (See http://12.46.245.173/pls/portal30/CATALOG.PROGRAM_TEXT_RPT.SHOW?p_arg_names=prog_nbr&p_arg_values=66.805.)

By this notice, EPA is announcing a cost share requirement for states receiving LUST prevention funding and announcing the authority to provide LUST prevention funding to tribes.

III. Cost Share Requirement for States Receiving LUST Prevention Assistance Agreements

When receiving an assistance agreement awarded under Section 9011 and other applicable provisions of Subtitle I of the SWDA, states are required to share twenty-five (25) percent of the total project period costs. This requirement is consistent with the cost share requirement contained in 40 CFR 35.335 for release prevention and detection grants funded with State and Tribal Assistance Grant (STAG) appropriations under Section 2007(f)(2) of the SWDA. States may meet the cost share requirement by any means authorized by the cost share provision of 40 CFR 31.24. Consistent with 40 CFR 35.735, there is no cost share requirement for LUST prevention cooperative agreements for tribes or intertribal consortia awarded pursuant to annual appropriation acts.

IV. Authority To Provide LUST Prevention Assistance Agreements to Tribes

EPA's fiscal year 2008 Appropriations Act authorizes EPA to use LUST prevention appropriations for financial assistance to tribes for the development and implementation of programs to manage underground storage tanks in Indian Country. This authority is consistent with EPA's existing authority to provide UST assistance agreements to tribes with STAG appropriations, as found in Public Law 105-276 (112 Stat. 2461, 2499; 42 U.S.C. 6908a).

Dated: March 20, 2008.
Susan Parker Bodine,
Assistant Administrator, Office of Solid Waste and Emergency Response.

[FR Doc. E8-6400 Filed 3-27-08; 8:45 am]

BILLING CODE 6560-50-P